ENVIRONMENTAL PROTECTION AGENCY

[FRL OP-OFA-090]

Environmental Impact Statements; Notice of Availability

Responsible Agency: Office of Federal Activities, General Information 202-564-5632 or https://www.epa.gov/nepa.

Weekly receipt of Environmental Impact Statements (EIS)

Filed October 2, 2023 10 a.m. EST Through October 6, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230134, Final, NRCS, CA, ADOPTION—Upper Llagas Creek Flood Protection Project, Review Period Ends: 11/13/2023, Contact: Ernesto De La Riva 530-792-5680. The Natural Resource Conservation Service (NRCS) has adopted the U.S. Army Corps of Engineers' Final EIS No. 20180300 filed 11/28/2018 with the Environmental Protection Agency. The NRCS was not a cooperating agency on this project. Therefore, republication of the document is necessary under Section 1506.3(b)(1) of the CEQ regulations.

EIS No. 20230135, Final, TxDOT, TX, US 380 McKinney, Contact: Doug Booher 512-416-2663. Under 23 U.S.C. 139(n)(2), TxDOT has issued a single document that consists of a final environmental impact statement and record of decision. Therefore, the 30-day wait/review period under NEPA does not apply to this action.

EIS No. 20230136, Final, TxDOT, TX, Loop 9 Segment A, Contact: Doug Booher 512-416-2663. Under 23 U.S.C. 139(n)(2), TxDOT has issued a single document that consists of a final environmental impact statement and record of decision. Therefore, the 30-day wait/review period under NEPA does not apply to this action.

EIS No. 20230137, Final Supplement, FERC, AL, Coosa River Hydroelectric Project, Review Period Ends: 11/13/2023, Contact: Office of External Affairs 866-208-3372.

Dated: October 10, 2023.
Cindy S. Barger,
Director, NEPA Compliance Division, Office of Federal Activities.

[FR Doc. 2023-22639 Filed 10-12-23; 8:45 am]

BILLING CODE 6560-50-P